DEPARTMENT OF DEFENSE

Department of the Army

Second Draft Environmental Impact Statement for Army Training Land Retention at Pōhakuloa Training Area in Hawai'i

AGENCY: Department of the Army, DOD.

ACTION: Notice of availability.

SUMMARY: The Department of the Army (Army) announces the availability of a Second Draft Environmental Impact Statement (Draft EIS) regarding its proposed action to retain up to approximately 22,750 acres of the 23,000 acres of land the Army currently leases from the State of Hawai'i (“State-owned land”) at Pōhakuloa Training Area (PTA) on the island of Hawai'i. The Army is publishing the Draft EIS for public review during a 45-day comment period. In accordance with the National Environmental Policy Act (NEPA) and the Hawai'i Environmental Policy Act (HEPA), the Draft EIS analyzes the potential direct, indirect, and cumulative impacts of a range of reasonable alternatives that meet the purpose of, and need for, the proposed action. Because the proposed action involves State-owned land, the EIS is a joint NEPA-HEPA document; therefore, the public review process runs concurrently and meets both NEPA and HEPA requirements.

DATES: The Army invites public comments on the Draft EIS during the 45-day public comment period. To be considered in the Final EIS, all comments must be postmarked or received by 11:59 p.m. Hawai'i standard time on June 7, 2024. Public meetings will be held in Waimea District Park on May 6, 2024, and at the 'Imiloa Astronomy Center on May 7, 2024 to provide information on the Draft EIS and to enhance the opportunity for public comment. Information on how to participate in the Draft EIS public meetings and how to submit comments is available on the EIS website at https://home.army.mil/hawaii/index.php/PTAEIS.

ADDRESSES: Written comments should be submitted through the EIS website at https://home.army.mil/hawaii/index.php/PTAEIS, emailed to atlr-pta-eis@g70.design, mailed to ATLR PTA EIS Comments, P.O. Box 3444, Honolulu, HI 96801-3444, or provided during the public meetings. Comments must be postmarked or received by June 7, 2024.

FOR FURTHER INFORMATION CONTACT: U.S. Army Garrison-Hawaii, Mr. Michael Donnelly, Public Affairs Office, by telephone at (808) 787-2140 or by email at usarmy.hawaii.nepa@army.mil.

SUPPLEMENTARY INFORMATION: During World War II, the U.S. Marine Corps trained on the land now known as PTA. A 1956 maneuver agreement between the Territory of Hawai'i and the Army formally established PTA. In 1964, the State of Hawai'i granted the Army a 65-year lease of approximately 23,000 acres of land adjacent to PTA for military purposes. The State-owned land now contains utilities, critical infrastructure, maneuver area, and key training facilities, some of which are not available elsewhere in Hawai'i. The parcel also provides access among the PTA cantonment area and Bradshaw Army Airfield and two other federally owned parcels at PTA.

The Army made a Draft EIS available for comment on this action on April 8, 2022. In response to comments received from agencies and the public on that Draft EIS, the Army is no longer considering the retention of approximately 250 acres of State-owned land administered by the Department of Hawaiian Home Lands. In addition to analyzing impacts of a fee simple retention method, the new Draft EIS also assesses impacts of a lease retention method. Due to these changes, the Army determined that another draft EIS should be made available for public comment.

The Draft EIS evaluates the potential impacts of a range of reasonable alternatives: (1) Maximum Retention (of approximately 22,750 acres); (2) Modified Retention (of approximately 19,700 acres); and (3) Minimum Retention and Access (of approximately 10,100 acres and 11 miles of roads and training trails). The Draft EIS also analyzes the potential impacts of the No Action Alternative, under which Army use of the land would cease altogether when the lease expires in 2029. The Army has identified Alternative 2, Modified Retention, as the Preferred Alternative. The Army based its preference on: public comments; environmental, social, technical, and economic considerations; and the ability of the alternative to meet the mission of the Army.

The Draft EIS analyzes: land use; biological resources; historic and cultural resources and cultural practices; hazardous substances and hazardous wastes; air quality and greenhouse gases; noise; geology, topography, and soils; water resources; socioeconomics; environmental justice; transportation and traffic; airspace; electromagnetic spectrum; utilities; and human health and safety.

The Draft EIS indicates that under Alternatives 1, 2, and 3, significant adverse impacts on land use (land tenure), cultural practices, and environmental justice could occur. Under the No Action Alternative, significant adverse impacts on biological resources, socioeconomics, and utilities could occur. The No Action Alternative could have significant beneficial impacts on land use, cultural practices, and environmental justice. To mitigate adverse impacts to land use, the Army would consider adding non-barbed wire fencing and signage to minimize encroachment and accidental or intentional trespass from adjacent non-U.S. Government-owned land. In consideration of adverse impacts to cultural practices and environmental justice, the Army, in consultation with Native Hawaiians and cultural practitioners, proposes to: (1) formalize a cultural access request process to enable Native Hawaiians and cultural practitioners to promote and preserve cultural practices, beliefs, and resources; and (2) explore options to provide unlimited access to specific locations. To mitigate adverse impacts on human health and safety, the Army would consider: (1) negotiating an agreement with the State to allow the Army to monitor for wildfires on the State-owned land that is not retained by the Army; and (2) continuing or renegotiating its Memorandum of Agreement with the Hawai'i County Fire Department to assist wildfire responders with wildfire suppression outside of PTA boundaries.

The No Action Alternative could have: significant adverse impacts on biological resources, socioeconomics, and utilities; significant beneficial impacts for land use, cultural practices, and environmental justice; and less than significant impacts on all other resources.

The Army distributed the Draft EIS to: Native Hawaiian Organizations; Federal, State, and local agencies and officials; and other stakeholders. The Draft EIS and informational materials are also available on the EIS website at: https://home.army.mil/hawaii/index.php/PTAEIS. The public may also review the Draft EIS and select materials at the following libraries:

1. Hawai'i State Library, Hawai'i Documents Center, 478 S King Street, Honolulu, HI 96813

2. Hilo Public Library, 300 Waianuenue Avenue, Hilo, HI 96720

3. Kailua-Kona Public Library, 75-138 Hualalai Road, Kailua-Kona, HI 96740

4. Thelma Parker Memorial Public and School Library, 67-1209 Mamalahoa Highway, Kamuela, HI 96743

Native Hawaiian Organizations, Federal, State, and local agencies/officials, and other interested entities/individuals are encouraged to comment on the Draft EIS during the 45-day public comment period. All comments postmarked or received June 7, 2024 will be considered in the development of the Final EIS.

James W. Satterwhite, Jr.,
U.S. Army Federal Register Liaison Officer.

[FR Doc. 2024-08403 Filed 4-18-24; 8:45 am]

BILLING CODE 3711-02-P